DEPARTMENT OF THE INTERIOR

Bureau of Land Management

[CAAZRI06106]

Notice of Realty Action; Recreation and Public Purposes (R&PP) Act Classification for Conveyance

AGENCY: Bureau of Land Management, Interior.

ACTION: Notice of realty action.

SUMMARY: This notice serves to amend the description of lands contained in a Notice of Realty Action published in the Federal Register March 6, 1998 (Volume 63, Number 44, Page 11307-11308). The following lands, located adjacent to the Palo Verde Solid Waste Landfill in Imperial County, California, have been examined and found suitable for conveyance to the County of Imperial under the provisions of the Recreation and Public Purposes Act of June 14, 1926, as amended (43 U.S.C. 869 et seq.): SBBM, T.9S., R.21E., sec. 15, S½SW¼SW¼NE¼SW¼, SE¼SE¼SE¼NW¼SW¼, E½E½NE¼SW¼SW¼ (4.38 acres, more or less).

Background: The Palo Verde Solid Waste Landfill has been operated by the County of Imperial, Department of Public Works on a 40-acre site leased from the Bureau of Land Management since 1966. Prior to fencing the boundary of the leased land, a portion of a pesticide container cell was inadvertently placed outside the perimeter of the landfill on the lands described above. Subsequent to the 1988 amendment of the R&PP Act of 1926, authorizing the issuance of patents to lands devoted to solid waste disposal, BLM notified the County that public lands would no longer be leased for solid waste disposal. Consequently, the Imperial County Board of Supervisors adopted Resolution No. 97-078, initiating the purchase/patent process for those public lands previously leased for this purpose. Because the County has converted the Palo Verde Landfill to a transfer station, the acreage has been reduced from the originally leased 40 acres, to approximately 31.25 acres so that only those lands impacted by previous landfill activities will be patented.

The described lands are not needed for Federal purposes, and conveyance without reversionary interest is consistent with current BLM land use planning. A landfill transfer audit and environmental assessment have been conducted in compliance with the National Environmental Policy Act of 1969, as well as other Federal and State laws applicable to the disposal of solid waste and hazardous substances. The patent will be subject to the following terms, conditions, and reservations:

1. Provisions of the Recreation and Public Purposes Act and all applicable regulations of the Secretary of the Interior.

2. A right-of-way for ditches and canals constructed by the authority of the United States.

3. Those rights granted to North Baja Pipeline, L.L.C. for a natural gas pipeline and related facilities, together with approved ingress and egress thereto, as described in the approved North Baja Pipeline Plan of Development, dated March 2002, by way of right-of-way CACA-42662.

4. All minerals shall be reserved to the United States together with the right to prospect for, mine and remove same under applicable law and regulations as prescribed by the Secretary of the Interior.

5. The patentee shall comply with all Federal and State laws applicable to the disposal, placement, or release of hazardous substances.

6. The patentee shall indemnify and hold harmless the United States against any legal liability or future costs that may arise out of any violation of such laws.

7. No portion of the land covered by such patent shall under any circumstance revert to the United States.

DATES: For a period of 45 days after publication of this notice in the Federal Register, interested parties may submit comments regarding this suitability determination to the Field Manager, Bureau of Land Management, El Centro Field Office, 1661 South 4th Street, El Centro, CA 92243. Objections will be reviewed by the State Director who may sustain, vacate, or modify this realty action. In the absence of any objections, this realty action will become the final determination of the Department of the Interior 60 days from the date of publication of this Notice.

FOR FURTHER INFORMATION, CONTACT: Linda Self, Realty Specialist, at the above address, telephone (760) 337-4426, or e-mail lself@ca.blm.gov.

SUPPLEMENTARY INFORMATION: Publication of this Notice in the Federal Register segregates the public land to the extent that it will not be subject to appropriation under the public land laws, including locations under the mining laws, except for conveyance under the Recreation and Public Purposes Act and leasing under the mineral leasing laws.

Dated: July 25, 2002.
Greg Thomsen,
Field Manager.

[FR Doc. 02-22402 Filed 8-30-02; 8:45 am]

BILLING CODE 4310-40-P